TWENTY-FIRST CENTURY WORKFORCE COMMISSION

Notice of Open Meeting

AGENCY: Twenty-First Century Workforce Commission.

ACTION: Notice of Open Meeting by Telephone Conference Call.

SUMMARY: Establishment of the Twenty-First Century Workforce Commission was mandated by Subtitle C of Title III of the Workforce Investment Act, Sec. 331 of Pub. L. 105-220, 112 Stat. 1087-1091 (29 U.S.C. 2701 note), signed into law on August 7, 1998. The 15 voting member Twenty-First Century Workforce Commission is charged with studying all aspects of the information technology workforce in the United States.

Time and Place: The open meeting will be held via telephone conference call at 9:30 a.m. to approximately 10:00 a.m. on Monday, June 26, 2000 at the U.S. Department of Labor, 200 Constitution Ave, NW, Washington DC 20210, in the Policy Center, Room S-2312. Commissioners will also attend via telephone conference call.

Agenda: The agenda for the Commission meeting includes approval of the Commission's final report and discussion of the Commission's press conference and policy summit to be held on June 27, 2000.

Public Participation: The meeting, held via telephone conference call from 9:30 a.m. to approximately 10:00 a.m., is open to the public. Individuals with disabilities should contact Sondra Nixon at (202) 219-6197, ext. 183, if special accommodations are needed.

FOR FURTHER INFORMATION CONTACT: Sondra Nixon, Program Analyst, Office of the Assistant Secretary for Policy, U.S. Department of Labor, at (202) 219-6197, ext 183.

Signed at Washington, D.C., this 8th day of June, 2000.
Hans K. Meeder,
Executive Director, Twenty-First Century Workforce Commission.

[FR Doc. 00-14992 Filed 6-13-00; 8:45 am]

BILLING CODE 4510-23-M